SURFACE TRANSPORTATION BOARD

[Docket No. FD 36142 (Sub-No. 1)]

Savage Companies—Continuance in Control Exemption—Savage Davenport Railroad Company

AGENCY: Surface Transportation Board.

ACTION: Correction to notice of exemption.

On September 1, 2017, notice of the above exemption was served and published in the Federal Register (82 FR 41,674). The exemption became effective on September 15, 2017. On October 4, 2017, a correction was filed with the Board advising that the parent company, which was inadvertently referred to in the continuance in control filing as “Savage Services Corporation” should have been referred to as “Savage Companies,” a privately held Utah corporation. This notice corrects the name of the parent company. All other information in the notice is correct.

Board decisions and notices are available on our Web site at “WWW.STB.GOV.”

Decided: October 23, 2017.
By the Board, Scott M. Zimmerman, Acting Director, Office of Proceedings.
Kenyatta Clay,
Clearance Clerk.

[FR Doc. 2017-23325 Filed 10-25-17; 8:45 am]

BILLING CODE 4915-01-P